FEDERAL COMMUNICATIONS COMMISSION

[FR ID 41814]

Open Commission Meeting Thursday, August 5, 2021

July 29, 2021.

The Federal Communications Commission will hold an Open Meeting on the subjects listed below on Thursday, August 5, 2021, which is scheduled to commence at 10:30 a.m. Due to the current COVID-19 pandemic and related agency telework and headquarters access policies, this meeting will be in a wholly electronic format and will be open to the public on the internet via live feed from the FCC's web page at www.fcc.gov/live and on the FCC's YouTube channel.

Item No. | Bureau | Subject
1 | ENGINEERING AND TECHNOLOGY | Title: Establishing Two New Innovation Zones (ET Docket No. 19-257).
|  | Summary: The Commission will consider a Public Notice that would create two new Innovation Zones for Program Experimental Licenses and the expansion of an existing Innovation Zone.
2 | WIRELINE COMPETITION | Title: Numbering Policies for Modern. Communications (WC Docket No. 13-97); Telephone Number Requirements for IP-Enabled Service Providers (WC Docket No. 07-243); Implementation of TRACED Act Section 6(a)—Knowledge of Customers by Entities with Access to Numbering Resources (WC Docket No. 20-67); and Process Reform for Executive Branch Review of Certain FCC Applications and Petitions Involving Foreign Ownership (IB Docket No. 16-155).
|  | Summary: The Commission will consider a Further Notice of Proposed Rulemaking to update the Commission's rules regarding direct access to numbers by interconnected Voice over Internet Protocol providers to safeguard the nation's finite numbering resources, curb illegal robocalls, protect national security, and further promote public safety.
3 | WIRELINE COMPETITION | Title: Call Authentication Trust Anchor (WC Docket No. 17-97); Appeals of the STIR/SHAKEN Governance Authority Token Revocation Decisions (WC Docket No. 21-291).
|  | Summary: The Commission will consider a Report and Order that would establish a process for the Commission to review decisions of the private STIR/SHAKEN Governance Authority that would have the effect of placing voice service providers out of compliance with the Commission's STIR/SHAKEN implementation rules.
4 | CONSUMER & GOVERNMENTAL AFFAIRS | Title: Modernizing Telecommunications Relay Service (TRS) Compensation (CG Docket No. 03-123; RM-11820).
|  | Summary: The Commission will consider a Notice of Proposed Rulemaking on TRS Fund compensation methodology for IP Relay service.
5 | MEDIA | Title: Revisions to Political Programming and Record-Keeping Rules (MB Docket No. 21-293).
|  | Summary: The Commission will consider a Notice of Proposed Rulemaking to update outmoded political programming rules.
6 | WIRELESS TELE-COMMUNICATIONS | Title: Review of the Commission's Part 95 Personal Radio Services Rules (WT Docket No. 10-119).
|  | Summary: The Commission will consider a Memorandum Opinion and Order on Reconsideration that would grant three petitions for reconsideration of the Commission's May 2017 Part 95 Personal Radio Services Rules Report and Order.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Cecilia Sigmund,
Associate Secretary.

[FR Doc. 2021-16868 Filed 8-5-21; 8:45 am]

BILLING CODE 6712-01-P